DEPARTMENT OF ENERGY

Federal Energy Regulatory Commission

[Docket Nos. CP17-495-000; CP17-494-000]

Jordan Cove Energy Project, L.P., Pacific Connector Gas Pipeline, L.P.; Notice of Meeting

The environmental staff of the Federal Energy Regulatory Commission (Commission) along with other federal agency staff will meet with representatives of the Confederated Tribes of the Coos, Lower Umpqua, and Siuslaw Indians to discuss the proposed Jordan Cove Energy Project. The meeting will be held at the location and time listed below:

Coos Bay Library, Cedar Room, 525 Anderson Avenue, Coos Bay, OR 97420, Phone: (541) 269-1101.

Tuesday, June 25, 2019, 9:00 a.m. PDT.

Members of the public and intervenors in the referenced proceeding may attend and observe this meeting; however, participation will be limited to tribal representatives and federal agency staff. If tribal representatives choose to disclose information about a specific location which could create a risk or harm to an archeological site or Native American cultural resource, the public will be excused for that portion of the meeting. A summary of the meeting will be entered into the Commission's administrative record.

If you plan to attend this meeting, please contact Mr. John Peconom, Environmental Project Manager at (202) 502-6352 or John.Peconom@ferc.gov.

Dated: June 20, 2019.
Nathaniel J. Davis, Sr.,
Deputy Secretary.

[FR Doc. 2019-13586 Filed 6-25-19; 8:45 am]

BILLING CODE 6717-01-P